ENVIRONMENTAL PROTECTION AGENCY

[FRL-7983-5]

Science Advisory Board Staff Office; Notification of Advisory Meeting of the SAB All-Ages Lead Model (AALM) Review Panel

AGENCY: Environmental Protection Agency (EPA).

ACTION: Notice.

SUMMARY: The Environmental Protection Agency (EPA or Agency) Science Advisory Board (SAB) Staff Office announces a public meeting of the SAB All-Ages Lead Model Review Panel (Panel) for the purpose of providing the Agency with advice and recommendations on the recently-developed All-Ages Lead Model.

DATES: The meeting will be held Thursday, October 27, 2005, from 9 a.m. to 5:30 p.m. (eastern time), and Friday, October 28, 2005, from 9 a.m. to 2 p.m. (eastern time).

ADDRESSES: The meeting will take place at SAB Conference Center, 1025 F Street, NW., Suite 3700, Washington, DC 20004.

FOR FURTHER INFORMATION CONTACT: Any member of the public who would like to submit written or brief oral comments (5 minutes or less), or wants further information concerning this meeting, may contact Mr. Fred Butterfield, Designated Federal Officer (DFO), EPA Science Advisory Board (1400F), U.S. Environmental Protection Agency, 1200 Pennsylvania Avenue, NW., Washington, DC 20460; via telephone/voice mail: (202) 343-9994; fax: (202) 233-0643; or e-mail at: butterfield.fred@epa.gov. General information concerning the EPA Science Advisory Board can be found on the EPA Web site at: http://www.epa.gov/sab.

SUPPLEMENTARY INFORMATION: SAB and the AALM Review Panel: The SAB was established by 42 U.S.C. 4365 to provide independent scientific and technical advice, consultation, and recommendations to the EPA Administrator on the technical basis for Agency positions and regulations. The SAB is a Federal advisory committee chartered under the Federal Advisory Committee Act (FACA), as amended, 5 U.S.C., App. The Panel will provide advice through the chartered SAB, and will comply with the provisions of FACA and all appropriate SAB Staff Office procedural policies.

The SAB Staff Office recently established the SAB AALM Review Panel to provide the EPA Administrator, through the SAB, with advice and recommendations on the Agency's All-Ages Lead Model. The Panel will comply with the provisions of FACA and all appropriate SAB Staff Office procedural policies.

Background: The SAB Staff Office has formed this Panel at the request of EPA's Office of Research and Development (ORD), National Center for Environmental Assessment (NCEA), to provide advice and recommendations to the Agency on EPA's recently-developed All-Ages Lead Model (AALM). The AALM is designed to predict lead concentrations in body tissues and organs for a hypothetical individual, based on a simulated lifetime of lead exposure. Statistical methods can be used to extrapolate to a population of similarly-exposed individuals. The precursor to the AALM was the Integrated Exposure Uptake Biokinetic (IEUBK) Model for Lead in Children. The IEUBK Model underwent peer review by the SAB in 1991 and was subsequently revised in response to that review, leading to release of Version 0.99d of the IEUBK Model in March 1994. Since then, the IEUBK Model has been widely accepted and used in the risk assessment community as a tool for implementing the site-specific risk assessment process when the issue is childhood lead exposure. Based on further refinement of the IEUBK Model and its expansion for use with additional age groups beyond pediatric populations 6 years old or younger, the AALM has recently been developed to cover older childhood and adult lead exposure. The anticipated outcome will be reduced uncertainty in lead exposure assessments for children and adults.

Any questions concerning either the AALM or the IEUBK Model for Lead in Children should be directed to Dr. Robert Elias, NCEA-RTP, at phone (919) 541-4167; or e-mail elias.robert@epa.gov.

Availability of Meeting Materials: NCEA-RTP has posted the “All-Ages Lead Model (AALM) Version 1.05 (External Review Draft)” and related materials (including the Guidance Manual for the AALM Version 1.05) on the NCEA Web site at http://cfpub.epa.gov/ncea/cfm/recordisplay.cfm?deid=139314. Furthermore, the SAB Staff Office will post a copy of the final agenda and charge to the Panel for this advisory meeting on the SAB Web site at http://www.epa.gov/sab (under “Meeting Agendas”) and http://www.epa.gov/sab/panels/ad_hoc_aalm_rev_panel.htm in advance of the Panel meeting.

Procedures for Providing Public Comment: The SAB Staff Office accepts written public comments of any length, and will accommodate oral public comments whenever possible. The SAB Staff Office expects that public will not repeat previously-submitted oral or written statements. Oral Comments: Requests to provide oral comments must be in writing (e-mail, fax or mail) and received by Mr. Butterfield no later than October 20, 2005 to reserve time on the October 27, 2005 meeting agenda. Opportunities for oral comments will be limited to five minutes per speaker. Written Comments: Written comments should be received in the SAB Staff Office by October 21, 2005 so that the comments may be made available to the members of the members of the SAB AALM Review Panel for their consideration. Comments should be supplied to Mr. Butterfield at the contact information provided above, in the following formats: one hard copy with original signature, and one electronic copy via e-mail (acceptable file format: Adobe Acrobat PDF, WordPerfect, Word, or Rich Text files (in IBM-PC/Windows 98/2000/XP format)). Those providing written comments and who attend the meeting in person are also asked to bring 75 copies of their comments for public distribution.

Meeting: Individuals requiring special accommodation at this meeting, including wheelchair access to the conference room, should contact Mr. Butterfield at the phone number or e-mail address noted above no later than October 20, 2005 so that appropriate arrangements can be made.

Dated: October 6, 2005.
Anthony F. Maciorowski,
Associate Director for Science, EPA Science Advisory Board Staff Office.

[FR Doc. 05-20601 Filed 10-13-05; 8:45 am]

BILLING CODE 6560-50-P